DEPARTMENT OF LABOR

Employment and Training Administration

Proposed Collection; ETA 218, Benefit Rights and Experience; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the collection of the ETA 218, Benefits Rights and Experience.

A copy of the proposed information collection request (ICR) can be obtained by contacting the office listed below in the addressee section of this notice.

DATES: Written comments must be submitted to the office listed in the addressee's section below on or before May 15, 2001.

ADDRESSES: Cynthia Ambler, U.S. Department of Labor, Employment and Training Administration, Room S-4231, 200 Constitution Ave. NW., Washington, DC 20210. Phone number: 202-693-3177. (This is not a toll free number.) E-mail: cambler@doleta.gov. Fax: 202-693-3229.

SUPPLEMENTARY INFORMATION:

I. Background

Attachment to the labor force, usually measured as amount of past wages earned, is used to determine eligibility for State unemployment compensation programs. The data in the ETA 218, Benefit Rights and Experience Report, includes numbers of individuals who were and were not monetarily eligible, those eligible for the maximum benefits, those eligible classified by potential duration categories, and exhaustees classified by actual duration categories. This data is used by the National Office in solvency studies, cost estimating and modeling, and to assess State benefit formulas.

II. Review Focus

The Department of Labor is particularly interested in comments which

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

III. Current Actions

We are requesting a simple extension of this clearance. If this data were not available, cost estimating and modeling would be far less accurate.

Type of Review: Extension without change.

Agency: Employment and Training Administration, Office of Workforce Security.

Title: Benefit Rights and Experience.

OMB Number: 1205-0177.

Agency Number: ETA 218.

Recordkeeping: 3 year record retention.

Affected Public: State Governments.

Total Respondents: 53.

Frequency: Quarterly.

Total Responses: 216.

Average Time per Response: ½ hour.

Estimated Burden Hours:

Cite/reference | Total respondents | Frequency | Total responses | Average time per response (in hours) | Burden (in hours)
ETA 218 Regular | 53 | Quarterly | 212 | ½ | 106
ETA 218 Extended Benefits | 2 | Quarterly | 4 | ¼ | 1
Totals |  |  | 216 |  | 107

Total Burden Cost (operating/maintaining): $2,675.

Comments submitted in response to this comment request will be summarized and/or included in the request for Office of Management and Budget approval of the information collection request; they will also become a matter of public record.

Dated: March 9, 2001.
Grace A. Kilbane,
Administrator, Office of Workforce Security.

[FR Doc. 01-6605 Filed 3-15-01; 8:45 am]

BILLING CODE 4510-30-P